DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of June 1, 2019 through June 30, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i) (I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either-

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,457 | General Motors Detroit-Hamtramck Assembly, Aramark | Detroit, MI | March 3, 2019.
94,457A | PSI Services, General Motors Detroit-Hamtramck Assembly | Detroit, MI | January 15, 2018.
94,457B | General Motors Subsystems Manufacturing, LLC | Detroit, MI | March 3, 2019.
94,561 | Corry Forge Company, Ellwood Group Inc., Express Employment | Corry, PA | February 22, 2018.
94,592 | Entergy Nuclear Operations, Inc., Pilgrim Nuclear Power Station, Guidant Group, MBO Partners, Day & Zimmerman | Plymouth, MA | March 5, 2018.
94,602 | Parker Hannifin Corporation, O-Ring and Engineered Seals Division, Manpower | Lynchburg, VA | March 7, 2018.
94,737 | LaMont Limited, Stephen A. Fausel, Temp Associates, QPS Employment Group | Burlington, IA | April 17, 2018.
94,760 | Imagination International Inc. | Eugene, OR | April 26, 2018.
94,771 | Verso Luke LLC, Luke Mill, Verso Corporation, Kelly Services, ProLogistix | Luke, MD | April 30, 2018.
94,771A | Verso Luke LLC, Beryl Woodyard, Verso Corporation | Beryl, WV | April 30, 2018.
94,771B | Verso Luke LLC, Verso Corporation, ProLogistix | Piedmont, WV | April 30, 2018.
94,771C | Verso Luke LLC, Keyser Warehouse, Verso Corporation | Keyser, WV | April 30, 2018.
94,771D | Verso Luke LLC, Beverly Woodyard, Verso Corporation | Beverly, WV | April 30, 2018.
94,771E | Verso Luke LLC, Luke Converting Facility, Verso Corporation | McCoole, MD | April 30, 2018.
94,777 | Amsted Rail Company, Inc., Amsted Industries, Partners Personnel, Express Employment, etc | Granite City, IL | May 24, 2019.
94,777A | Aerotek Professional Services, Beacon Hill Staffing, Robert Half, K-Force, Sitex, Insight Global, Amsted Rail Company, Amsted Industries | Granite City, IL | May 2, 2018.
94,851 | Woodcrest Manufacturing, Inc | Peru, IN | May 24, 2018.

The following certifications have been issued. The requirements of Section 222(a)(2)(B) (Shift in Production or Services to a Foreign Country Path or Acquisition of Articles or Services from a Foreign Country Path) of the Trade Act have been met.

TA-W No. | Subject firm | Location | Impact date
94,348 | Carestream Health, Inc | Rochester, NY | November 19, 2017.
94,466 | BNY Mellon, Application Development, The Bank of New York Mellon Corporation, etc | Jersey City, NJ | January 16, 2018.
94,524 | FullBeauty Brands Management Services, LLC, Imaging subdivision | New York, NY | February 7, 2018.
94,582 | Liberty Mutual Insurance Company, Professional Collaboration Team (PCT), Liberty Mutual Group Inc | Tigard, OR | March 1, 2018.
94,583 | Molina Healthcare Inc., Information Technology Division, WG Consulting, 200 Oceangate | Long Beach, CA | March 2, 2018.
94,583A | Molina Healthcare Inc., Information Technology Division, WG Consulting, 300 Oceangate | Long Beach, CA | March 2, 2018.
94,583B | Molina Healthcare Inc., Information Technology Division, WG Consulting, 1500 Hughes Way | Long Beach, CA | March 2, 2018.
94,583C | Molina Healthcare Inc., Information Technology Division, WG Consulting, 604 Pine Avenue | Long Beach, CA | March 2, 2018.
94,583D | Molina Healthcare Inc., Information Technology Division, WG Consulting, 605 Pine Avenue | Long Beach, CA | March 2, 2018.
94,601 | GTT Communications, Inc., SMB Division, Veriant Solutions, APEX, Agility Solutions | Lemont Furnace, PA | March 7, 2018.
94,652 | Natera, Inc., Insurance Billing Department, Aerotek, Austin Staffing Inc | Austin, TX | March 20, 2018.
94,654 | Resolute FP US, Inc., US Corporate Division, Resolute Forest Products, Xcentri, Manpower | Catawba, SC | March 13, 2018.
94,655 | Lowe's Home Centers, LLC., Lowe's Companies, Inc., Apex System | Kirkland, WA | March 22, 2018.
94,671 | Lear Corporation, Structures Division | Morristown, TN | March 27, 2018.
94,682 | Bryant Rubber Corp., Kimco | Harbor City, CA | October 21, 2018.
94,682A | Workers Whose Wages Were Reported Through ADP TotalSource-PEO | Harbor City, CA | April 1, 2018.
94,686 | Steelhead Manufacturing, Chinook Asia LLC | Lake Oswego, OR | April 2, 2018.
94,687 | Consolidated Metco, Express Employment | Etowah, TN | April 3, 2018.
94,693 | CSG Systems, Inc., CSG Systems International, Inc | Elkhorn, NE | April 3, 2018.
94,703 | Hanesbrands, Inc., Seamless Textiles Division | Humacao, PR | April 4, 2018.
94,708 | Alexian Brothers â€” AHS Midwest Regions Co., AMITA Health, Medical Collections, AHS Midwest Management Services | Lisle, IL | April 8, 2018.
94,712 | Highmark Inc., Highmark Health, Benefit Coding Division, Customer Implementation Analyst | Camp Hill, PA | April 5, 2018.
94,712A | Highmark Inc., Highmark Health, Benefit Coding Division, Customer Implementation Analyst | Pittsburgh, PA | April 5, 2018.
94,734 | Anixter | Glenview, IL | April 16, 2018.
94,762 | PayPal, Inc., PayPal Holdings, Inc. | Hunt Valley, MD | April 26, 2018.
94,764 | Ross Mould LLC | Washington, PA | May 17, 2019.
94,796 | Hubbell Lighting, Inc.—Elgin, Hubbell Incorporated, Manpower, Skyline Staffing, Elite Staffing | Elgin, IL | May 8, 2018.
94,797 | Allianz Global Risks US Insurance Company, N.A., Allianz Global Corporate &amp; Specialty | Burbank, CA | May 10, 2018.
94,799 | Ocwen Loan Servicing LLC, Ocwen Financial Corporation, Contingent | Glendale, CA | May 10, 2018.
94,804 | PHH Mortgage Corporation, Ocwen Financial Corporation, Ocwen Loan Servicing, LLC, CSSvSource | Mount Laurel, NJ | May 10, 2018.
94,809 | Web.com Group, Inc., Siris Capital Group, LLC | Spokane, WA | May 8, 2018.
94,820 | Kitron Technologies Inc., Manpower | Windber, PA | May 15, 2018.
94,823 | AdvanSix Inc., Manpower | Pottsville, PA | May 17, 2018.
94,826 | TE Connectivity, Randstad | Berwyn, PA | May 17, 2018.
94,830 | U.S. Bank, National Association, Consumer & Business Banking Operations Unit, System Changes, etc. | Owensboro, KY | May 20, 2018.
94,831 | Arrow International, Teleflex, Inc., Aerotek, The Agency | Asheboro, NC | June 22, 2019.
94,833 | Del Monte Foods, Inc., Del Monte Pacific, Deduction Analyst Department, Pleasant Hill Facility | Walnut Creek, CA | May 21, 2018.
94,836 | Eagle Test Systems Inc., a Teradyne Company, Teradyne, Inc., Artech | Buffalo Grove, IL | May 22, 2018.
94,841 | ConAgra Brands, Inc., Global Business Information Services | Cherry Hill, NJ | May 23, 2018.
94,841A | ConAgra Brands, Inc., Global Business Information Services | Parsippany, NJ | May 23, 2018.
94,845 | Vesuvius USA | Tyler, TX | September 29, 2019.
94,849 | Deluxe Digital Cinema Inc., Deluxe Entertainment Services Group, Deluxe Shared Services, Adecco | Wilmington, OH | May 24, 2018.
94,855 | Columbia Plywood Corporation, Klamath Plywood, Columbia Forest Products, Express Employment Professionals | Klamath Falls, OR | December 28, 2018.

The following certifications have been issued. The requirements of Section 222(b) (downstream producer to a firm whose workers are certified eligible to apply for TAA) of the Trade Act have been met.

TA-W No. | Subject firm | Location | Impact date
94,795 | Columbia Forest Products, All in A Day Temporary Services, Inc. (A.I.D.) | Trumann, AR | December 28, 2018.

The following certifications have been issued. The requirements of Section 222(e) (firms identified by the International Trade Commission) of the Trade Act have been met.

TA-W No. | Subject firm | Location | Impact date
94,387 | South Coast Lumber | Brookings, OR | December 28, 2016.
94,656 | Alliance Rubber Co., FirstStaff | Hot Springs, AR | February 15, 2018.
94,662 | Aleris, Job Giraffe, Chase Professionals | Lincolnshire, IL | February 5, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
94,543 | Epiq, Computer Software and Development Team | Seattle, WA.
94,642 | Maxim Integrated Products, Inc., Compucom Systems, Elevated Resources, Final Phase Systems, etc | Beaverton, OR.

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,348A | Carestream Health, Inc., Global Customer Care Unit, Datrose, Modis | Rochester, NY. |

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,326 | C. Cretors & Company, TriNet, Talent Force | Bismarck, MO.
94,553 | Western Digital Technologies Inc., Western Digital Corporation, Hard Disk Drive Research and Development, etc | Irvine, CA.
94,555 | MACOM Technology Solutions Inc., MACOM Technology Solutions Holdings, Inc | Ithaca, NY.
94,555A | MACOM Technology Solutions Inc., MACOM Technology Solutions Holdings, Inc | Ithaca, NY.
94,571 | Walmart Global Business Services, Walmart, Inc | Derby, KS.
94,606 | The Crown Group Company, Coatings Services, PPG Industries, Inc | Livonia, MI.
94,616 | Bitech, Inc., Performance Bicycle, Advances Sports Enterprises, Inc | Vienna, VA.
94,616A | Bitech, Inc., Performance Bicycle, Advances Sports Enterprises, Inc | Springfield, VA.
94,616B | Bitech, Inc., Performance Bicycle, Advances Sports Enterprises, Inc | Reston, VA.
94,616C | Bitech, Inc., Performance Bicycle, Advances Sports Enterprises, Inc | Charlottesville, VA.
94,616D | Bitech, Inc., Performance Bicycle, Advances Sports Enterprises, Inc | Virginia Beach, VA.
94,616E | Bitech, Inc., Performance Bicycle, Advances Sports Enterprises, Inc | Henrico, VA.
94,618 | Kroger Columbus Bakery, The Kroger Co | Columbus, OH.
94,631 | Formation Capital Corporation, U.S., Idaho Cobalt Project, eCobalt Solutions Company | Salmon, ID.
94,640 | American Tire Distributors, Inc., Wytheville Distribution Center, Workforce Unlimited, LLC | Wytheville, VA.
94,650 | International Automotive Components (IAC), Manpower, Noonan Group | Greencastle, IN.
94,668 | AT&T Mobility Services LLC, Workforce Operations Division | Oklahoma City, OK.

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,670 | Harsco Rail, Ludington Facility, Harsco Corporation | Ludington, MI.

The following determinations terminating investigations were issued because the worker group on whose behalf the petition was filed is covered under an existing certification.

TA-W No. | Subject firm | Location | Impact date
94,468 | MOL (America) Inc., MOL (Americas) Holding, Inc., Mitsui O.S.K. Lines, Ltd | Woodbridge, NJ.
94,468A | MOL (America) Inc., MOL (Americas) Holding, Inc., Mitsui O.S.K. Lines, Ltd | Atlanta, GA.
94,468B | MOL (America) Inc., MOL (Americas) Holding, Inc., Mitsui O.S.K. Lines, Ltd | Lombard, IL.
94,468C | MOL (America) Inc., MOL (Americas) Holding, Inc., Mitsui O.S.K. Lines, Ltd | Concord, CA.
94,468D | MOL (America) Inc., MOL (Americas) Holding, Inc., Mitsui O.S.K. Lines, Ltd | Gardena, CA.

The following determinations terminating investigations were issued because the petitioning group of workers is covered by an earlier petition that is the subject of an ongoing investigation for which a determination has not yet been issued.

TA-W No. | Subject firm | Location | Impact date
94,610 | AT&T, 240 North Meridian | Indianapolis, IN.
94,649 | Gannett Satellite Information Network, LLC, Gannett Co., Inc., Technology Division | Louisville, KY.

I hereby certify that the aforementioned determinations were issued during the period of June 1, 2019 through June 30, 2019. These determinations are available on the Department's website https://www.doleta.gov/tradeact/petitioners/taa_search_form.cfm under the searchable listing determinations or by calling the Office of Trade Adjustment Assistance toll free at 888-365-6822.

Signed at Washington, DC, this 22nd day of July 2019.
Hope D. Kinglock,
Certifying Officer, Office of Trade Adjustment Assistance.

[FR Doc. 2019-17702 Filed 8-16-19; 8:45 am]

BILLING CODE 4510-FN-P